DEPARTMENT OF HEALTH AND HUMAN SERVICES

Centers for Disease Control and Prevention

[30Day-25-1368]

Agency Forms Undergoing Paperwork Reduction Act Review

In accordance with the Paperwork Reduction Act of 1995, the Centers for Disease Control and Prevention (CDC) has submitted the information collection request titled “Performance Monitoring of CDC's Comprehensive Suicide Prevention Program” to the Office of Management and Budget (OMB) for review and approval. CDC previously published a “Proposed Data Collection Submitted for Public Comment and Recommendations” notice on June 16, 2025 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Performance Monitoring of CDC's Comprehensive Suicide Prevention Program (OMB Control No. 0920-1368, Exp. 9/30/2025)—Revision—National Center for Injury Prevention and Control (NCIPC), Centers for Disease Control and Prevention (CDC).

Background and Brief Description

This is a Revision request for the currently approved Performance Monitoring of CDC's Comprehensive Suicide Prevention Program OMB Control No. 0920-1368, Exp. 9/30/2025). The Centers for Disease Control and Prevention (CDC) seeks OMB approval for an additional three years to continue the collection of information from recipients funded under the Comprehensive Suicide Prevention Program cooperative agreement (CE22-2204), hereafter known as CSP. This Revision includes the addition of a new instrument to monitor syndromic surveillance data on a quarterly schedule. This enables CSP recipients to provide quarterly updates to partners in their individual jurisdictions, describing trends in syndromic surveillance data, including upticks or changes in patterns or groups impacted to promote tailored suicide prevention outreach. Quarterly reporting ensures CDC is apprised of trends in suicide related emergency department data within jurisdictions.

Recipients will continue to report progress and activity information to CDC on an annual schedule using a web-based Partners' Portal. The Partners' Portal allows recipients to fulfill their annual reporting obligations efficiently by employing user-friendly, easily accessible web-based instruments to collect necessary information for both progress reports and continuation applications including work plans. This approach enables recipients to save pertinent information from one reporting period to the next and reduces the administrative burden on the annual continuation application and the performance monitoring process. Awardee program staff can review the completeness of data needed to generate required reports, enter basic summary data for reports annually, and finalize and save required reports for upload into other reporting systems, as required.

The information collection provides crucial data for program performance monitoring and allows NCIPC to respond to frequent inquiries about suicide prevention work from the Department of Health and Human Services, the White House, Congress and other interest-holders, as well as work towards our vision of “No lives lost to suicide” and our mission to use data, science, and partnerships to identify and implement effective suicide prevention strategies to foster healthy and resilient communities across the United States, per our suicide prevention strategic plan. Information to be collected will also strengthen CDC's ability to monitor awardee progress, identify trends, provide data-driven technical assistance, and disseminate the most current surveillance data on suicide and suicide attempts.

CDC requests OMB approval for an estimated 480 annual burden hours. There are no costs to respondents other than their time.

Estimated Annualized Burden Hours
Type of respondents | Form name | Number of respondents | Number of responses per respondent | Average burden per response (in hours)
CSP Program recipients | Annual Progress Report | 24 | 1 | 12
CSP Program Recipients | Syndromic Surveillance Report | 24 | 4 | 2

Jeffrey M. Zirger,
Lead, Information Collection Review Office, Office of Public Health Ethics and Regulations, Office of Science, Centers for Disease Control and Prevention.

[FR Doc. 2025-18264 Filed 9-19-25; 8:45 am]

BILLING CODE 4163-18-P